DEPARTMENT OF THE INTERIOR

National Park Service

[NPS-WASO-NRNHL-DTS#-27274; PPWOCRADI0, PCU00RP14.R50000]

National Register of Historic Places; Notification of Pending Nominations and Related Actions

AGENCY: National Park Service, Interior.

ACTION: Notice.

SUMMARY: The National Park Service is soliciting comments on the significance of properties nominated before February 2, 2019, for listing or related actions in the National Register of Historic Places.

DATES: Comments should be submitted by February 27, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 2, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

GEORGIA

Clarke County

Chi Omega House, 324 S. Milledge Ave., Athens, SG100003491.

Dade County

Lookout Mountain Hotel, 14049 Scenic Hwy., Lookout Mountain, SG100003423.

INDIANA

Allen County

Colman-Doctor Farm, 5910 Maples Rd., Fort Wayne vicinity, SG100003499.

Brown County

Story Historic District, Elkinsville Rd. at IN 135, Story, SG100003500.

Clark County

Indiana State Prison South-Indiana Reformatory- Colgate-Palmolive Historic District, 1410 S. Clark Blvd., Clarksville, SG100003501.

Hamilton County

Plum Prairie Residential Historic District, Roughly bounded by Vine, Walnut, 7th, South, & 5th Sts. including blk. W. to 4th between Walnut & Pleasant Sts., Noblesville, SG100003502.

Marion County

Architects and Builders Building, 333 N. Pennsylvania St., Indianapolis, SG100003503.

Noble County

Brimfield School No. 2, (Indiana's Public Common and High Schools MPS), N 140 E, 1 blk. N. of E. 3rd St., Brimfield vicinity, MP100003504.

Parke County

Turkey Run State Park, (New Deal Resources on Indiana State Lands MPS), Roughly bounded by IN 47, Narrows, Coxford & the E-W leg of Smedley Rds., Marshall, MP100003505.

Putnam County

Bainbridge Historic District, Generally E. side of Washington St. from 123 S. to 405 N. & Main St. from 312 W. to 421 E., Bainbridge, SG100003506.

Russellville Historic District

Roughly bounded by Jesse Ave., Fordice, High & McCaw Sts., Russellville, SG100003508.

Ripley County

Busching Covered Bridge, E. Perry St./E Cty. Rd. 25 S at Laughery Cr., Versailles vicinity, SG100003509.

Friendship Stone Arch Bridge, Olean Rd./Cty Rd. 525 E over Raccoon Cr., Friendship vicinity, SG100003510.

Otter Creek Covered Bridge, N. Cty. Rd. 850 W at Otter Cr., Holton vicinity, SG100003511.

Sullivan County

Merom-Gill Township Carnegie Library, 8554 Market St., Merom, SG100003512.

Vigo County

Miller-Parrott Baking Company Building, 1450 Wabash Ave., Terre Haute, SG100003516.

IOWA

Allamakee County

West Paint Creek Synod Evangelical Lutheran Church and Cemetery, 1351 Elon Dr., Waterville, SG100003422.

KANSAS

Douglas County

Chewning House, (Lawrence, Kansas MPS), 1510 Stratford Rd., Lawrence, MP100003443.

Johnson Block Historic District, (Lawrence, Kansas MPS), E. side of 800 blk. Arkansas St. and W. side of 800 blk. of Missouri St., Lawrence, MP100003445.

First Methodist Episcopal Church, 946 Vermont St., Lawrence, SG100003446.

Jefferson County

Christy, Lyman, Farmstead, (Agriculture-Related Resources of Kansas MPS), 9001 Christy Rd., Meriden vicinity, MP100003426.

Miami County

Martin Farm, (Agriculture-Related Resources of Kansas MPS), 31943 and 31860 W 247th St., Paola vicinity, MP100003428.

Riley County

Wolf House Historic District, (Late 19th Century Vernacular Stone Houses in Manhattan, Kansas MPS), 630 Freemont, Manhattan, MP100003425.

Sedgwick County

Eastwood Plaza Apartments, (Residential Resources of Wichita, Sedgwick County, Kansas 1870-1957 MPS), 4802-4850 & 4850-4835 E. Eastwood. 616-626 S Oliver Ave., Wichita, MP100003429.

Shawnee County

St. Joseph's School-St. Joseph's Convent, 304-308 SW Van Buren St., Topeka, SG100003441.

Wichita County

Municipal Auditorium and City Hall, (New Deal-Era Resources of Kansas MPS), 201 N 4th St., Leoti, MP100003427.

KENTUCKY

Boyle County

McGrorty Avenue-Old Wilderness Road Historic District, Wilderness Rd. between E. Broadway and Fitzpatrick St., Danville, SG100003476.

Campbell County

Grote Manufacturing Company Building (CP337), 239 Grandview Ave., Bellevue, SG100003473.

Clark County

Wright-Evans House, 3800 Pretty Run Rd., Winchester vicinity, SG100003474.

Jefferson County

Puritan Apartment Hotel, 1244 S. Fourth St., Louisville, SG100003475.

Shafer's Hall, 617 N 27th St., Louisville, SG100003478.

Woodford County

Ready-Twyman House, 220 N. Main St., Versailles vicinity, SG100003477.

LOUISIANA

Rapides Parish

Tyrone Plantation, 6576 Bayou Rapides Rd., Alexandria, SG100003456.

MASSACHUSETTS

Middlesex County

George Close Company Building, 243 Broadway, Cambridge, SG100003472.

Plymouth County

Sever, William, House, 2 Linden St., Kingston, SG100003469.

Suffolk County

Intervale Street-Columbia Road Historic District, 117-121, 123-127, 129-135, 137-143, 145-159, 161, 162 Intervale St. & 282-284, 286-288, Columbia Rd., Boston, SG100003470.

Samuel Edelman Apartments, 97-103 Norfolk St., Boston, SG100003471.

NEW MEXICO

Colfax County

Cimarron Mercantile, 709 S Collison St., Cimarron, SG100003458.

NEW YORK

Erie County

Monarch Knitting Company Factory, 10 Doat St., Buffalo, SG100003432.

Niagara County

Payne Avenue High School, 621 Payne Ave., North Tonawanda, SG100003431.

Buildings at Niagara and Seventh Streets, 610-628 Niagara St., Niagara Falls, SG100003433.

Oneida County

Fort Wood Creek Site, Address Restricted, Rome vicinity, SG100003434.

Onondaga County

St. Anthony of Padua Church Complex, 417-425 W Colvin St. & 1515 Midland Ave., Syracuse, SG100003435.

Queens County

Richmond Hill Historic District, Generally 84th-85th Aves. & 113th to 118th Sts., Queens, SG100003430.

OHIO

Summit County

Case-Barlow Farm, 1931 Barlow Rd., Hudson, SG100003498.

OREGON

Deschutes County

Central Oregon Canal Historic District (Ward Road-Gosney Road Segment), (Carey and Reclamation Acts Irrigation Projects in Oregon, 1901-1978 MPS), Roughly bounded by Somerset Dr., Bear Creek, Gosney & Ward Rds., Bend vicinity, MP100003461.

Multnomah County

Blakely, Charles O. and Carie C., House, (Portland Eastside MPS), 2203 SE Pine St., Portland, MP100003451.

Sigglin, Charles O., Flats, (Portland Eastside MPS), 701-709 SE 16th Ave., Portland, MP100003453.

McDonald, Daniel C. and Katie A., House, 2944 NE Couch St., Portland, SG100003459.

Kiernan House, (Settlement-era Dwellings, Barns and Farm Groups of the Willamette Valley, Oregon MPS), 1020 SW Cheltenham Ct., Portland, MP100003460.

Laurelhurst Historic District, (Historic Residential Suburbs in the United States, 1830-1960 MPS), Roughly bounded by NE Stark, NE Senate. NE 44th & NE 32nd, Portland, MP100003462.

PENNSYLVANIA

Allegheny County

Frick Park, 1981 Beechwood Blvd., Pittsburgh, SG100003450.

Berks County

Berks County Trust Company, 35 N. 6th St., Reading, SG100003455.

SOUTH DAKOTA

Bon Homme County

Perkins Congregational Church, 31205 409th St., Springfield vicinity, SG100003448.

Brown County

First Presbyterian Church of Groton, 300 N. Main St., Groton, SG100003447.

Butte County

Chambers Dugout, (Rural Butte and Meade Counties MRA), 19003 Rimrock Ranch, Belle Fourche vicinity, MP100003437.

Roosevelt School, (Schools in South Dakota MPS), 1010 State St., Belle Fourche, MP100003438.

Haakon County

Haakon County Courthouse, (County Courthouses of South Dakota MPS), 140 Howard Ave., Philip, MP100003442.

Lawrence County

Jackson Boulevard Historic District, Several blks. around E Jackson Blvd., generally bounded by N 7th, N 10th, E Kansas & E Hudson Sts., Spearfish, SG100003440.

Hann, Solomon and Martha, Homestead, 21732 Hann Pl., Nemo vicinity, SG100003444.

Lincoln County

Dickens Round Barn, (South Dakota's Round and Polygonal Barns and Pavilions MPS), 27882 473rd Ave., Worthing vicinity, MP100003439.

TEXAS

Brazoria County

Alvin Gulf, Colorado and Santa Fe Railway Passenger Depot, (Gulf, Colorado and Santa Fe Railway Depots of Texas MPS), 200 Depot Centre Blvd., Alvin, MP100003467.

Cameron County

Baxter Building, 106 S A St., Harlingen, SG100003420.

De Witt County

DeWitt County Monument, (Monuments and Buildings of the Texas Centennial MPS), US 87 & Courthouse St., Cuero, MP100003421.

Ellis County

Ennis Commercial Historic District (Boundary Increase), (Ennis MRA), 205 N McKinley, 301-303 W Knox & 107 N Sherman Sts., Ennis, BC100003468.

Fayette County

Mier Expedition and Dawson's Men Monument and Tomb, (Monuments and Buildings of the Texas Centennial MPS), 414 TX Loop 92, Monument Hill and Kreische Brewery State Historic Sites., La Grange vicinity, MP100003486.

Gregg County

Petroleum Building, 202 E Whaley St., Longview, SG100003494.

Harris County

Houston Municipal Airport Terminal, 8325 Travelair Rd., Houston, SG100003488.

St. Elizabeth's Hospital, 4514 Lyons Ave., Houston, SG100003489.

500 Jefferson Building, 500 Jefferson St., Houston, SG100003492.

Parmer County

Parmer County Courthouse, 401 3rd St., Farwell, SG100003490.

Potter County

American National Bank of Amarillo and SPS Tower, 600 S Tyler St., Amarillo, SG100003493.

VIRGINIA

Amherst County

Thompson's Mill-Amherst Mill Complex, 138-140 Union Hill Rd., Amherst, SG100003484.

Fredericksburg Independent City, Fredericksburg and Confederate Cemetery, 1000-1100 Washington Ave., Fredericksburg (Independent City), SG100003480.

King And Queen County

Bruington Rural Historic District, Along Rose Mount Rd., Pea Ridge Rd., The Trail, Bruington Rd., and Norwood Rd., Bruington vicinity, SG100003481.

Norfolk Independent City, Norfolk Auto Row Historic District, Roughly bounded by E 14th, Boush & Granby Sts., Monticello & W Brambleton Aves., Norfolk (Independent City), BC100003483.

Wise County

Big Stone Gap Downtown Historic District, 200-500 Wood Ave. E, Shawnee Ave., E 3rd St., E 4th St., E 5th St., Big Stone Gap, SG100003482.

WISCONSIN

Dane County

Main Street Historic District, 100-225 E Main St., 102 & 200-205 W Main St., 103-105 S 2nd St., and 102 S 3rd St., Mount Horeb, SG100003457.

In the interest of preservation, a SHORTENED comment period has been requested for the following resources:

OHIO

Champaign County

North Ward District School, 626 N Russell, Urbana, SG100003495.

Comment period: 3 days.

South Ward District School, 725 S Main St., Urbana, SG100003496.

Comment period: 3 days.

Coshocton County

Coshocton Main Street Historic District, Roughly bounded by Main, Chestnut & Walnut Sts. between 3rd & 7th Sts., Coshocton, SG100003497.

Comment period: 3 days.

A request for removal has been made for the following resources:

INDIANA

Vigo County

House at 209-211 S Ninth Street, (Downtown Terre Haute MRA), 209-211 S 9th St., Terre Haute, OT83000109.

Chamber of Commerce Building, (Downtown Terre Haute MRA), 329-333 Walnut St., Terre Haute, OT83000155.

Foley Hall, St. Mary of the Woods College Campus, Off US 150, St. Mary-of-the-Woods, OT85000595.

IOWA

Polk County

Burnstein—Malin Grocery, (Towards a Greater Des Moines MPS), 1241 6th Ave., Des Moines, OT98001277.

Scott County

Sainte Genevieve (dredge), (Davenport MRA), Antoine LeClaire Park, off US 67, Davenport, OT86002232.

Eldridge Turn—Halle, 102 W LeClaire St., Eldridge, OT87000032.

Wapello County

Benson Building, (Ottumwa MPS), 214 E Second St., Ottumwa, OT95000969.

Woodbury County

Midland Packing Company, 2001 Leech Ave., Sioux City, OT79000952.

Additional documentation has been received for the following resources:

INDIANA

Putnam County

McKim Observatory, DePauw University, DePauw and Highbridge Aves., Greencastle, AD78000051.

SOUTH DAKOTA

Pennington County

Rapid City Historic Commercial District, Roughly Main & St. Joseph Sts., primarily between Mt. Rushmore Rd. & 5th St., including, Aby Complex, Rapid City, AD74001897.

TEXAS

Galveston County

Strand Historic District, The, Roughly bounded by Ave. A, 20th St., alley between Aves. C and D, and railroad depot, Galveston, AD70000748.

Nomination submitted by Federal Preservation Officers: The State Historic Preservation Officer reviewed the following nomination and responded to the Federal Preservation Officer within 45 days of receipt of the nomination and supports listing the properties in the National Register of Historic Places.

KANSAS

Shawnee County

Topeka Veterans Administration Hospital, (United States Third Generation Veterans Hospitals, 1946-1958 MPS), 2200 SW Gage Blvd., Topeka, MP100003485.

Authority: Section 60.13 of 36 CFR part 60.

Dated: February 4, 2019.
Paul Lusignan,
Acting Chief, National Register of Historic Places/National Historic Landmarks Program.

[FR Doc. 2019-01987 Filed 2-11-19; 8:45 am]

BILLING CODE 4312-52-P